DEPARTMENT OF HEALTH AND HUMAN SERVICES

Centers for Disease Control and Prevention

[30 Day-15-0792]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Environmental Health Specialists Network (EHS-NET) Program (OMB No. 0920-0792, expired 1/31/2015)—Reinstatement—National Center for Environmental Health (NCEH), Centers for Disease Control and Prevention (CDC).

Background and Brief Description

The CDC is requesting OMB approval for a reinstatement (with changes) of this generic information collection plan. Due to the uncertainty about whether the EHS-Net program would receive continued funding, NCEH submitted a discontinuation request for this plan on January 23, 2015. This reinstatement will provide clearance for EHS-Net data collections conducted in the next three years to support a research program focused on identifying the environmental causes of foodborne illness.

This program is conducted by the Environmental Health Specialists Network (EHS-Net), a collaborative project of CDC, the Food and Drug Administration (FDA), the United States Department of Agriculture (USDA), and local and state sites. To date, EHS-Net has conducted four studies under this generic information collection plan. The data from these studies have yielded valuable findings and have been disseminated to environmental public health/food safety regulatory programs and the food industry in the form of presentations at conferences and meetings, scientific journal publications, and Web site postings.

NCEH intends to conduct EHS-Net data collections from 2015 through 2018 (approximately one per year). The program is revising the generic information collection request (ICR) to account for a likely change in the participating sites, to reduce the estimated burden, and to eliminate ineffective sample weighting analyses.

Reducing foodborne illness first requires identification and understanding of the environmental factors that cause these illnesses. We need to know how and why food becomes contaminated with foodborne illness pathogens. This information can then be used to determine effective food safety prevention methods. The purpose of this food safety research program is to identify and understand environmental factors associated with foodborne illness and outbreaks.

Environmental factors associated with foodborne illness include both food safety practices (e.g., inadequate cleaning practices) and the factors in the environment associated with those practices (e.g., worker and retail food establishment characteristics). To understand these factors, we need to continue to collect data from those who prepare food (i.e., food workers) and on the environments in which the food is prepared (i.e., retail food establishment kitchens). Thus, data collection methods for this generic package include: (1) manager and worker interviews/assessments, and (2) observation of kitchen environments. Both methods allow data collection on food safety practices and environmental factors associated with those practices.

For each data collection, we will collect data in approximately 47 retail food establishments per site. Thus, there will be approximately 376 establishments per data collection (an estimated 8 sites X 47 establishments). We expect a manager/establishment response rate of approximately 60 percent; thus, we will need to attempt to recruit 627 managers/establishments via telephone in order to meet our goal of 376 establishments. Each manager will respond to the recruiting script only once for approximately three minutes. Thus, the maximum burden for the manager recruiting attempts will be 31 hours. We will collect interview/assessment data from a manager in each establishment. Each manager will respond only once for approximately 30 minutes. Thus, the maximum burden for the manager interview/assessment will be 188. In total, the average burden for managers will be 219 hours (31 hours for recruiting plus 188 hours for the interview/assessment).

For each data collection, we will recruit a worker from each participating establishment to provide interview/assessment data. Each worker will respond to the recruiting script only once for approximately three minutes. Thus, the maximum burden for the worker recruiting attempts will be 19 hours. We expect a worker response rate of 90 percent (339 workers). Each worker will respond only once for approximately 10 minutes. Thus, the maximum burden for the worker interview/assessment will be 57 hours. In total, the average burden per worker response will be 88 hours (19 hours for recruiting plus 57 hours for the interview/assessment).

There is no cost to respondents other than their time. The total estimated annual burden for each data collection will be 295 hours.

Estimated Annualized Burden Hours
Type of respondents | Form name | Number of respondents | Number of responses per respondent | Average burden per response (in hours)
Retail managers | Manager Telephone Recruiting Script | 627 | 1 | 3/60
Retail managers | Manager Interview/Assessment | 376 | 1 | 30/60
Retail food workers | Worker Recruiting Script | 376 | 1 | 3/60
Retail food workers | Worker Interview/Assessment | 339 | 1 | 10/60

Leroy A. Richardson,
Chief, Information Collection Review Office, Office of Scientific Integrity, Office of the Associate Director for Science, Office of the Director, Centers for Disease Control and Prevention.

[FR Doc. 2015-09785 Filed 4-27-15; 8:45 am]

BILLING CODE 4163-18-P